DEPARTMENT OF TRANSPORTATION

Federal Motor Carrier Safety Administration

Sunshine Act Meeting; Unified Carrier Registration Plan Board of Directors

AGENCY: Federal Motor Carrier Safety Administration (FMCSA), DOT.

Time and Date: January 13, 2009, from 1 p.m. until 5 p.m., and January 14, 2009, from 8 a.m. until 12 Noon, Central Standard Time.

Place: This meeting will take place at the Hilton Garden Inn, 500 North Interstate 35, Austin, TX 78701.

Status: Open to the public.

Matters To Be Considered: The Unified Carrier Registration Plan Board of Directors (the Board) will continue its work in developing and implementing the Unified Carrier Registration Plan and Agreement and to that end, may consider matters properly before the Board.

FOR FURTHER INFORMATION CONTACT: Mr. Avelino Gutierrez, Chair, Unified Carrier Registration Plan Board of Directors at (505) 827-4565.

Dated: December 3, 2008.
William A. Quade,
Associate Administrator for Enforcement and Program Delivery.

[FR Doc. E8-29195 Filed 12-5-08; 4:15 pm]

BILLING CODE 4910-EX-P